DEPARTMENT OF HOMELAND SECURITY

Coast Guard

[Docket No. USCG-2021-0187]

National Merchant Mariner Medical Advisory Committee; April 2021 Teleconference

AGENCY: U.S. Coast Guard, Department of Homeland Security.

ACTION: Notice of Federal Advisory Committee teleconference meeting.

SUMMARY: The National Merchant Mariner Medical Advisory Committee (Committee) will meet via teleconference to discuss matters relating to medical certification determinations for issuance of licenses, certificates of registry, and merchant mariners' documents, medical standards and guidelines for the physical qualifications of operators of commercial vessels, medical examiner education, and medical research. The meeting will be open to the public.

DATES:

Meeting: The National Merchant Mariner Medical Advisory Committee will meet by teleconference on Monday, April 19, 2021, from 11 a.m. until 3 p.m. (EDT). The teleconference may adjourn early if the Committee has completed its business.

Comments and supporting documentation: To ensure your comments are received by Committee members before the teleconference, submit your written comments no later than April 12, 2021.

ADDRESSES: To join the teleconference or to request special accommodations, contact the individual listed in the FOR FURTHER INFORMATION CONTACT section no later than 1 p.m. on April 12, 2021, to obtain the needed information. The number of teleconference lines are limited and will be available on a first-come, first-served basis.

Instructions: You are free to submit comments at any time, including orally at the teleconference as time permits, but if you want Committee members to review your comment before the teleconference, please submit your comments no later than April 12, 2021. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2021-0187]. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. David Belliveau, Alternate Designated Federal Officer of the National Merchant Mariner Medical Advisory Committee, telephone 202-372-1208 or email david.j.belliveau@uscg.mil.

SUPPLEMENTARY INFORMATION: Notice of this meeting is in compliance with the Federal Advisory Committee Act, 5 U.S.C. Appendix.

The National Merchant Mariner Medical Advisory Committee Meeting is authorized by § 601 of the Frank LoBiondo Coast Guard Authorization Act of 2018. The statutory authority is codified in 46 U.S.C. 15104. The Committee operates under the provisions of the Federal Advisory Committee Act (5 U.S.C. Appendix) in addition to the provisions applicable to all National Maritime Transportation Advisory Committees in 46 U.S.C. 15109.

The Committee advises the Secretary of the Department of Homeland Security through the Commandant of the Coast Guard on matters related to: (a) Medical certification determinations for issuance of licenses, certificates of registry, and merchant mariners' documents; (b) medical standards and guidelines for the physical qualifications of operators of commercial vessels; (c) medical examiner education; and (d) medical research.

Agenda

The agenda for the April 19, 2021, teleconference is as follows:

(1) Introduction.

(2) Designated Federal Officer remarks.

(3) Introduction, roll call of Committee members and determination of a quorum.

(4) Remarks from U.S. Coast Guard Leadership.

(5) Swearing in of Committee Members.

(6) Election by committee members of Chair and Vice Chair.

(7) Presentation of Tasks—The Committee will review the tasks presented by the Coast Guard and determine if they will accept the tasks to form Working Groups. The following tasks will be considered for acceptance:

(a) Task Statement 21-X1, Recommendations on Mariner Mental Health (Formerly MEDMAC Task 18-27);

(b) Task Statement 21-X2, Communication Between External Stakeholders and the Mariner Credentialing Program (Formerly MEDMAC Task 18-28);

(c) Task Statement 21-X3, Medical Certifications for Military to Mariner (Formerly MEDMAC Task 19-31);

(d) Task Statement 21-X4, Recommendations on Appropriate Diets and Wellness for Mariners While Onboard Merchant Vessels (Formerly MEDMAC Task 16-24); and

(e) Task Statement 21-X5, Review of Proposed Revisions to the International Convention on Standards of Training, Certification and Watchkeeping for Fishing Vessel Personnel (STCW-F) Medical Standards.

(8) Introduction to Merchant Mariner Medical Regulations and Policy.

(9) Introduction to the National Maritime Center.

(10) Public comment period.

(11) Closing remarks/plans for next meeting.

(12) Adjournment of meeting.

A copy of all meeting documentation will be available at https://homeport.uscg.mil/missions/federal-advisory-committees/national-merchant-mariner-medical-advisory-committee-(nmedmac) no later than April 12, 2021. Alternatively, you may contact Mr. David Belliveau as noted in the FOR FURTHER INFORMATION section above.

During the April 19, 2021 teleconference, a public comment period will be held immediately after the introduction to the National Maritime Center, at approximately 2:00 p.m. Public comments will be limited to two minutes per speaker. Please note that the public comments period will end following the last call for comments. Please contact the individual listed in the FOR FURTHER INFORMATION CONTACT section, to register as a speaker.

Dated: March 24, 2021.
Jeffrey G. Lantz,
Director of Commercial Regulations and Standards.

[FR Doc. 2021-06426 Filed 3-26-21; 8:45 am]

BILLING CODE 9110-04-P